DEPARTMENT OF AGRICULTURE

Forest Service

Eastern Arizona Counties Resource Advisory Committee

AGENCY: Forest Service, USDA.

ACTION: Notice of meeting.

SUMMARY: The Eastern Arizona Counties Resource Advisory Committee will meet in Payson, Arizona. The purpose of the meeting is to review and approve projects for funding.

DATES: The meeting will be held August 11, 2006, at 11 a.m.

ADDRESSES: The meeting will be held at the Gila Community College Payson Campus, 201 Mud Springs Road, Payson Arizona. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests (928) 333-4301.

SUPPLEMENTARY INFORMATION: The meeting is open to the public. Committee discussion is limited to Forest Service staff and Committee members. However, persons who wish to bring Public Law 106-393 related matters to the attention of the Committee may file written statements with the Committee staff before the meeting. Opportunity for public input will be provided.

Dated: July 19, 2006.
Elaine Zieroth,
Forest Supervisor, Apache-Sitgreaves National Forests.

[FR Doc. 06-6435 Filed 7-24-06; 8:45 am]

BILLING CODE 3410-11-M